DEPARTMENT OF DEFENSE

Office of the Secretary

[DOD-2006-OS-0177]

Manual for Courts-Martial; Proposed Amendments

AGENCY: Joint Service Committee on Military Justice (JSC), DoD.

ACTION: Notice of Proposed Amendments to the Manual for Courts-Martial, United States (2005 ed.) and Notice of Public Meeting.

SUMMARY: This notice extends the comments period and changes the address to send the comment on the Manual for Courts-Martial; Proposed Amendments notice which was published on August 10, 2006 (71 FR 45780).

FOR FURTHER INFORMATION CONTACT: Lieutenant Colonel L. Peter Yob, 703-588-6744.

SUPPLEMENTARY INFORMATION: On August 10, 2006 (71 FR 45780), the Department of Defense published a notice on Proposed Amendments to the Manual for Courts-Martial, United States (205 ed.) and Notice of Public Meeting. The comment period was published with a 30 day limit. The address to forward the comments were not in compliance with the Federal Docket Management System. This notice extends the comment period and identifies where the commentors should forward their comments.

The following changes to the August 10th notice are as follows:

DATES: Comments on the proposed changes must be received no later than October 10, 2006.

ADDRESSES: You may submit comments, identified by docket number and or RIN number and title, by any of the following methods:

• Federal eRulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

All other information remains unchanged.

Dated: August 10, 2006.
L.M. Bynum,
OSD Federal Register Liaison Officer, DoD.

[FR Doc. 06-6980 Filed 8-16-06; 8:45 am]

BILLING CODE 5001-06-M